SMALL BUSINESS ADMINISTRATION

Annual Meeting of the Regional Small Business Regulatory Fairness Boards

AGENCY: Office of the National Ombudsman, U.S. Small Business Administration (SBA).

ACTION: Notice of open meeting of the Regional Small Business Regulatory Fairness Boards.

SUMMARY: The SBA, Office of the National Ombudsman, is issuing this notice to announce the location, date, time and agenda for the annual board meeting of the ten Regional Small Business Regulatory Fairness Boards. The meeting is open to the public.

DATES: The meeting will be held on Wednesday, November 18, 2020 from 8:30 a.m. to 5:00 p.m. EDT, and Thursday, November 19, 2020 from 8:30 a.m. to 5:00 p.m. EDT.

ADDRESSES: The meeting will be held virtually through Microsoft Teams.

FOR FURTHER INFORMATION CONTACT: The meeting is open to the public; however advance notice of attendance is requested. Anyone wishing to attend must contact Joshua Tovar, Administrative Specialist, by November 3rd, 2020. If you need accommodations because of a disability, translation services, or require additional information, please contact Joshua Tovar, by phone (888) 734-3247, by fax (202) 481-5719 or email ombudsman@sba.gov.

For more information on the Office of the National Ombudsman, please visit our website at www.sba.gov/ombudsman.

SUPPLEMENTARY INFORMATION: Pursuant to the Small Business Regulatory Enforcement Fairness Act (Pub. L. 104-121), Sec. 222, SBA announces the meeting of the Regional Small Business Regulatory Fairness Boards (Regional Regulatory Fairness Boards). The Regional Regulatory Fairness Boards are tasked to advise the National Ombudsman on matters of concern to small businesses relating to enforcement activities of agencies and to report on substantiated instances of excessive enforcement actions against small business concerns, including any findings or recommendations of the Board as to agency enforcement practice or policy.

The purpose of the meeting is to discuss the following topics related to the Regional Regulatory Fairness Boards:

—Introduction of the Regional Regulatory Fairness Boards and the staff of the Office of the National Ombudsman

—Facilitated discussion of ongoing regulatory issues for small business

—FY2020 Outcomes and comments regarding the Annual Report to Congress

—Office of Advocacy regulatory review

—SBA update and future outreach planning

Dated: October 28, 2020.
Nicole Nelson,
SBA Committee Management Officer.

[FR Doc. 2020-24222 Filed 10-30-20; 8:45 am]

BILLING CODE 8026-03-P